DEPARTMENT OF JUSTICE

Executive Office for Immigration Review

[Dir. Order No. 01-2026]

Inflation Adjustment for EOIR OBBBA Fees; Fiscal Year 2026

AGENCY: Executive Office for Immigration Review, Department of Justice.

ACTION: Notice of inflationary fee adjustment.

SUMMARY: The Department of Justice (“Department”) is announcing inflationary adjustments to immigration-related fees for filings with the Executive Office for Immigration Review (“EOIR”) under the One Big Beautiful Bill Act (“OBBBA”) for Fiscal Year (“FY”) 2026. OBBBA requires the Attorney General to annually adjust for inflation the OBBBA fees that EOIR collects. This notice sets out the EOIR-collected OBBBA fees for the remainder of FY 2026 and their effective dates.

DATES: The fees announced in this notice are effective February 1, 2026. Any filing with an Immigration Court or the Board of Immigration Appeals postmarked on or after February 1, 2026, without the proper filing fee or an applicable request for fee waiver will be rejected.

FOR FURTHER INFORMATION CONTACT: Jamee E. Comans, Acting Assistant Director, Office of Policy, Executive Office for Immigration Review, 5107 Leesburg Pike, Suite 2500, Falls Church, VA 22041, telephone (703) 305-0289 (not a toll-free call).

SUPPLEMENTARY INFORMATION:

Table of Abbreviations

CPI-U—Consumer Price Index for All Urban Consumers

DHS—Department of Homeland Security

EOIR—Executive Office for Immigration Review

FRN—Federal Register Notice

FY—Fiscal Year

INA—Immigration and Nationality Act

OBBBA—One Big Beautiful Bill Act

PM—Policy Memorandum

I. Background and Authority

On July 4, 2025, a Congressional budget reconciliation bill (H.R. 1), commonly referred to as the OBBBA,¹ became law. Public Law 119-21, 139 Stat. 72. As relevant to EOIR, OBBBA (1) introduced new immigration fees to be collected by the Attorney General beginning in FY 2025 (“OBBBA fees”) on top of any preexisting EOIR fees, (2) authorized the Attorney General to adjust EOIR-collected OBBBA fees through rulemaking, and (3) mandated that the Attorney General annually update EOIR-collected OBBBA fees for inflation based on the Consumer Price Index for All Urban Consumers (“CPI-U”). See OBBBA, Title X, Subtitle A, Part I, Sec. 100002, 100009, 100013; 8 U.S.C. 1802, 1808, 1812.

¹ The official name of the legislation is “An Act To provide for reconciliation pursuant to title II of H. Con. Res. 14.”

On July 9, 2025, EOIR issued a policy memorandum (“PM”) that explained the FY 2025 OBBBA fees to be collected by EOIR. See EOIR PM 25-35, Statutory Fees Under the One Big Beautiful Bill Act (July 9, 2025). Then, on July 17, 2025, EOIR issued another PM, which superseded and replaced PM 25-35 and clarified that OBBBA fees apply in addition to any other fees authorized by law, including preexisting EOIR fees. See EOIR PM 25-36, Statutory Fees Under the One Big Beautiful Bill Act (July 17, 2025) (amended). Thus, PM 25-36, as amended, provided additional information on the collection of fees and listed the total applicable EOIR fee amounts for the remainder of FY 2025, inclusive of any applicable FY 2025 OBBBA fees. Id. The total EOIR fees for the remainder of FY 2025, as set forth in PM 25-36, were as follows:

• $2,940 for any application for adjustment of status (Form I-485) to that of a lawful permanent resident filed with the Immigration Court or adjudicated in Immigration Court, inclusive of the $1,500 FY 2025 OBBBA fee set forth in Section 100013(a) (8 U.S.C. 1812(a));

• $100 for any application for asylum (Form I-589) filed under section 208 of the Immigration and Nationality Act (“INA”) (8 U.S.C. 1158), inclusive of the $100 FY 2025 OBBBA fee set forth in Section 100002 (8 U.S.C. 1802);

• $100 annually for any application for asylum (Form I-589) for each calendar year that the asylum application remains pending, inclusive of the $100 FY 2025 OBBBA fee set forth in Section 100009(a)-(b) (8 U.S.C. 1808);

• $700 for any application for cancellation of removal (Form EOIR-42A) filed with an Immigration Court for an alien who is a lawful permanent resident, inclusive of the $600 FY 2025 OBBBA fee set forth in Section 100013(i) (8 U.S.C. 1812(i));

• $1,600 for any application for cancellation of removal and adjustment of status (Form EOIR-42B) filed with an Immigration Court by an alien who is not a lawful permanent resident, inclusive of the $1,500 FY 2025 OBBBA fee set forth in Section 100013(j) (8 U.S.C. 1812(j));

• $700 for any application for suspension of deportation (Form EOIR-40 ²) filed with an Immigration Court, inclusive of the $600 FY 2025 OBBBA fee set forth in Section 100013(h) (8 U.S.C. 1812(h));

² PM 25-36 inadvertently labeled this form as Form I-881; however, Form EOIR-40 is the correct form.

• $500 for any application for temporary protected status (Form I-821) filed with an Immigration Court, inclusive of the $500 FY 2025 OBBBA fee set forth in Section 100013(c) (8 U.S.C. 1812(c));

• $2,100 for any application for waiver of grounds of inadmissibility (Form I-601) filed with an Immigration Court, inclusive of the $1,050 FY 2025 OBBBA fee set forth in Section 100013(b) (8 U.S.C. 1812(b));

• $1,010 for any appeal from a decision of an Immigration Judge (Form EOIR-26)—except for bond appeals, which have no fee—inclusive of the $900 FY 2025 OBBBA fee set forth in Section 100013(d) (8 U.S.C. 1812(d));

• $1,010 for any appeal from a decision of a Department of Homeland Security (“DHS”) officer (Form EOIR-29), inclusive of the $900 FY 2025 OBBBA fee set forth in Section 100013(e) (8 U.S.C. 1812(e));

• $2,000 for any appeal in a practitioner disciplinary case (Form EOIR-45), inclusive of the $1,325 FY 2025 OBBBA fee set forth in Section 100013(f) (8 U.S.C. 1812(f));

• $1,045 for any motion to reopen or reconsider a decision of an Immigration Judge—except for motions to reopen an in absentia removal order filed in accordance with INA 240(b)(5)(C)(ii) (8 U.S.C. 1229a(b)(5)(C)(ii)), or motions to reopen an in absentia deportation order filed in accordance with the former INA 242B(c)(3)(B) (prior to April 1, 1997)—inclusive of the $900 FY 2025 OBBBA fee set forth in Section 100013(g) (8 U.S.C. 1812(g));

• $1,010 for any motion to reopen or to reconsider a decision of the Board of Immigration Appeals, inclusive of the $900 FY 2025 OBBBA fee set forth in Section 100013(g) (8 U.S.C. 1812(g)).

On October 30, 2025, the United States District Court for the District of Maryland issued a temporary stay of EOIR's PM 25-36. Asylum Seeker Advocacy Project v. USCIS, No. SAG-25-03299, 2025 WL 3029552 at *9 (D. Md. Oct. 30, 2025) (ASAP). Although the order in ASAP temporarily stayed PM 25-36, it did not stay, restrain, or otherwise enjoin OBBBA's fee-imposing provisions nor any of EOIR's fee-imposing regulations. See id. On January 2, 2006, EOIR rescinded PM 25-36.

Thus, the Department is adjusting EOIR-collected OBBBA fees for inflation for FY 2026 as required by OBBBA, and this FRN provides notice of those inflationary fee adjustments.

II. Basis for Adjustment

OBBBA requires that all EOIR-collected OBBBA fees be adjusted annually for inflation and directs that a specific adjustment formula be applied to each fee. See, e.g., OBBBA sections 100002, 100009; 8 U.S.C. 1802, 1808.

For all but one EOIR-collected OBBBA fee, OBBBA states that the inflation-adjusted OBBBA fee is the sum of (1) “the amount of the fee required . . . for the most recently concluded fiscal year”; and (2) “the product resulting from the multiplication of the amount referred to in [(1)] by the percentage (if any) by which the [CPI-U] for the month of July preceding the date on which such adjustment takes effect exceeds the [CPI-U] for the same month of the preceding calendar year, rounded to the next lowest multiple of $10.” See sections 100002, 100013 (emphasis added); 8 U.S.C. 1802, 1812. In contrast, section 100009 (Annual Asylum Fee) uses the same formula but with the product resulting from the multiplication of the prior July FY's OBBBA fee of July FY 2025 by the percentage of the change in CPI-U between July 2024 and July 2025 rounded down to the nearest dollar rather than to the next lowest multiple of $10. See section 100009 (emphasis added); 8 U.S.C. 1808.

Thus, for all OBBBA fees except the Annual Asylum Fee, EOIR calculated the inflation-adjusted FY 2026 OBBBA fees by:

1. determining the percentage by which the CPI-U changed between July 2024 (314.540) and July 2025 (323.048) ³ (approximately 2.70 percent);

³ See U.S. Bureau of Labor Statistics, Consumer Price Index News Release (July 2025), https://www.bls.gov/news.release/archives/cpi_08122025.htm.

2. multiplying that result by the FY 2025 OBBBA fee;

3. rounding that result to the next lowest multiple of $10;

4. and adding that result to the FY 2025 OBBBA fee.

For the Annual Asylum Fee, pursuant to section 100009, EOIR calculated the inflation-adjusted FY 2026 OBBBA fee by:

1. determining the percentage by which the CPI-U changed between July 2024 (314.540) and July 2025 (323.048) ⁴ (approximately 2.70 percent);

⁴ Id.

2. multiplying that result by the FY 2025 OBBBA fee;

3. rounding that result down to the nearest dollar;

4. and adding that result to the FY 2025 OBBBA total fee.

Table 1 summarizes the FY 2026 Inflation-Adjusted OBBBA fees. Additionally, Table 1 provides the new FY 2026 EOIR total fees, inclusive of the FY 2026 Inflation-Adjusted OBBBA fees.

⁵ This amount does not include any applicable biometrics fees.

Table 1—FY 2026 Inflation-Adjusted OBBBA Fees and FY 2026 EOIR Total Fees
Immigration fee type | Current OBBBA fee | CPI-U change (%) | Inflation adjustment | Round down to next lowest $10 | Round down to nearest dollar | FY 2026 OBBBA fee | FY 2026 EOIR total fees ⁵
Form I-485, Application to Register Permanent Residence or Adjust Status | $1,500 | 2.70 | $40.50 | $40 | N/A | $1,540 | $2,980
Form I-589, Application for Asylum and for Withholding of Removal—Initial Application | 100 | 2.70 | 2.70 | 0 | N/A | 100 | 100
Form I-589, Application for Asylum and for Withholding of Removal—Annual Asylum Fee | 100 | 2.70 | 2.70 | N/A | 2 | 102 | 102
Form EOIR-42A, Application for Cancellation of Removal for Certain Permanent Residents | 600 | 2.70 | 16.20 | 10 | N/A | 610 | 710
Form EOIR-42B, Application for Cancellation of Removal and Adjustment of Status for Certain Nonpermanent Residents | 1,500 | 2.70 | 40.50 | 40 | N/A | 1,540 | 1,640
Form EOIR-40, Application for Suspension of Deportation | 600 | 2.70 | 16.20 | 10 | N/A | 610 | 710
Form I-821, Application for Temporary Protected Status | 500 | 2.70 | 13.50 | 10 | N/A | 510 | 510
Form I-601, Application for Waiver of Grounds of Inadmissibility | 1,050 | 2.70 | 28.35 | 20 | N/A | 1,070 | 2,120
Form EOIR-26, Notice of Appeal from a Decision of an Immigration Judge | 900 | 2.70 | 24.30 | 20 | N/A | 920 | 1,030
Form EOIR-29, Notice of Appeal to the Board of Immigration Appeals from a Decision of a DHS Officer | 900 | 2.70 | 24.30 | 20 | N/A | 920 | 1,030
Form EOIR-45, Notice of Appeal from a Decision of an Adjudicating Official in a Practitioner Disciplinary Case | 1,325 | 2.70 | 35.78 | 30 | N/A | 1,355 | 2,030
Motion to reopen or reconsider a decision of an Immigration Judge—except for motions to reopen an in absentia removal order filed in accordance with INA § 240(b)(5)(C)(ii) and motions to reopen an in absentia deportation order filed in accordance with former INA § 242B(c)(3)(B) (prior to April 1, 1997), filed by an alien | 900 | 2.70 | 24.30 | 20 | N/A | 920 | 1,065
Motions to reopen or reconsider a decision of the Board of Immigration Appeals filed by an alien | 900 | 2.70 | 24.30 | 20 | N/A | 920 | 1,030

III. Effective Date and Implementation

EOIR will require the FY 2026 filing fees established in this notice for any filings with the Immigration Courts or the Board of Immigration Appeals postmarked on or after February 1, 2026. EOIR will reject any filings postmarked on or after February 1, 2026, that are not accompanied by a proper filing fee or request for an applicable fee waiver.

EOIR will update its website and electronic payment portal with the filing fee amounts established in this notice and any future inflationary adjustments.⁶ See, e.g., EOIR, Types of Appeals, Motions, and Required Fees (last updated Oct. 22, 2025), https://www.justice.gov/eoir/types-appeals-motions-and-required-fees; EOIR, EOIR Forms (last updated Nov. 21, 2025), https://www.justice.gov/eoir/eoir-forms; EOIR, EOIR Payment Portal, https://epay.eoir.justice.gov/index. EOIR may codify the fees covered by this notice and annual adjustments in a future rule.

⁶ The fee amount for each type of application, appeal, motion or other form is reflected on the EOIR Payment Portal, which includes options to pay based on which fee amount was operative at the time of filing.

Daren K. Margolin,
Director, Executive Office for Immigration Review, Department of Justice.

[FR Doc. 2026-01012 Filed 1-20-26; 8:45 am]

BILLING CODE 4410-30-P